DEPARTMENT OF HEALTH AND HUMAN SERVICES

Health Resources and Services Administration

Agency Information Collection Activities: Submission to OMB for Review and Approval; Public Comment Request; Evaluation of the Maternal and Child Health Bureau's Autism CARES Act Initiative

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than February 21, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A), the Paperwork Reduction Act of 1995.

Information Collection Request Title: Evaluation of the Maternal and Child Health Bureau's Autism CARES Act Initiative OMB No. 0915-0335, Revision.

Abstract: In response to the growing need for research and resources devoted to autism spectrum disorder (ASD) and other developmental disabilities (DDs), the U.S. Congress passed the Combating Autism Act in 2006 (Pub. L. 109-416); it was reauthorized by the Combating Autism Reauthorization Act of 2011 (Pub. L. 112-32) and the Autism CARES (Collaboration, Accountability, Research, Education, and Support) Act of 2014 (Pub. L. 113-157). Through Autism CARES, HRSA is tasked with increasing awareness of ASD and other DDs, reducing barriers to screening and diagnosis, promoting evidence-based interventions, and training health care professionals in the use of valid and reliable diagnostic tools. To address these goals, HRSA awards grants to various programs through the Maternal and Child Health Bureau (MCHB).

Need and Proposed Use of the Information: The purpose of this information collection is to describe the accomplishments of MCHB's grant programs in implementing the provisions of the Autism CARES Act. This ICR is a revision to an existing package; this study is the third evaluation of MCHB's Autism CARES activities and employs similar data collection methodologies to the prior studies. Grantee interviews remain the primary form of data collection, but the research team has made minor adjustments to the data collection processes. Changes include adjusting the interview protocols to improve flow and clarify questions, and planning for more than one respondent to attend interviews in instances where the principal investigator requests support.

Likely Respondents: Grantees funded by HRSA under the Autism CARES Act. The grantees are from these MCHB programs: Leadership Education in Neurodevelopmental Disabilities (LEND) Training Program; Developmental-Behavioral Pediatrics (DBP) Training Program; State Implementation Program; State Innovation in Care Integration Program; Research Network Program; Research Program; Interdisciplinary Technical Assistance Center (ITAC); and the State Public Health Autism Center (SPHARC) Resource Center.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden
Grant program/form name | Number of respondents | Number of responses per respondent | Total responses | Average burden per response (in hours) | Total burden hours
LEND Interview Protocol | 53 | 2 | 106 | 1 | 106
DBP Interview Protocol | 10 | 2 | 20 | 1 | 20
State Implementation Program Interview Protocol | 9 | 2 | 18 | 1 | 18
State Innovation in Care Integration State Grantees | 4 | 1 | 4 | 1 | 4
Research Network Interview Protocol | 5 | 2 | 10 | 1 | 10
Research Program R40 Interview Protocol | 10 | 1 | 10 | 1.5 | 15
Research Network Questionnaire | 5 | 1 | 5 | 1 | 5
Resource Center: ITAC Interview Protocol | 1 | 2 | 2 | 1 | 2
Resource Center: SPHARC Interview Protocol | 1 | 2 | 2 | 1 | 2
Total | 98 |  | 177 |  | 182

Jason E. Bennett,
Director, Division of the Executive Secretariat.

[FR Doc. 2017-01206 Filed 1-18-17; 8:45 am]

BILLING CODE 4165-15-P